DEPARTMENT OF TRANSPORTATION

Federal Aviation Administration

Twelfth Meeting: RTCA Special Committee 217, Joint with EUROCAE WG-44, Terrain and Airport Mapping Databases

AGENCY: Federal Aviation Administration (FAA), U.S. Department of Transportation (DOT).

ACTION: Meeting Notice of RTCA Special Committee 217, Joint with EUROCAE WG-44, Terrain and Airport Mapping Databases.

SUMMARY: The FAA is issuing this notice to advise the public of the twelfth meeting, RTCA Special Committee 217, Joint with EUROCAE WG-44, Terrain and Airport Mapping Databases.

DATES: The meeting will be held June 18-22, 2012, from 9:00 a.m.-5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 217. The agenda will include the following:

June 18-22, 2012

• Chairmen's remarks and introductions

• Housekeeping

• Approve minutes from previous meeting

• Review and approve meeting agenda

• Schedule for this week

• Provide comment resolution to Revised DO-276A/ED-98A

• Consider/Approve FRAC Draft for PMC Consideration—Revised DO-276A/ED-98A, User Requirements for Terrain and Obstacle Data

• Work items for V & V Document

• Review results of ToR presentation to PMC of June 13th

• Review results of Guidance Material Presentation

• Update work program

• Action Item Review

• Resolve Secretary

• Closing Plenary

• Plenary Adjourns

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 9, 2012.
John Raper,
Manager, Business Operations Branch, Federal Aviation Administration.

[FR Doc. 2012-12100 Filed 5-17-12; 8:45 am]

BILLING CODE 4910-13-P